ENVIRONMENTAL PROTECTION AGENCY

[FRL-8172-6, Docket ID No. EPA-HQ-ORD-2004-0018]

Draft Air Quality Criteria for Lead

AGENCY: Environmental Protection Agency (EPA).

ACTION: Notice of public comment period on a second external review draft.

SUMMARY: The EPA is announcing a public comment period for the draft document titled, “Air Quality Criteria for Lead; Second External Review Draft” (EPA/600/R-05/144aB-bB). The document was prepared by the National Center for Environmental Assessment within EPA's Office of Research and Development.

EPA is releasing this draft document solely for the purpose of seeking public comment. It does not represent and should not be construed to represent any Agency policy, viewpoint, or determination. EPA will consider any public comments submitted in accordance with this notice when revising the document.

DATES: The public comment period begins on or about May 15, 2006, and ends June 27, 2006. Comments must be received on or before June 27, 2006.

ADDRESSES: The draft “Air Quality Criteria for Lead; Second External Review Draft” will be available primarily via the Internet on the National Center for Environmental Assessment's home page under the Recent Additions and Publications menus at http://www.epa.gov/ncea. A limited number of CD-ROM or paper copies will be available. Contact Ms. Diane Ray by phone (919-541-3637), fax (919-541-1818), or e-mail (ray.diane@epa.gov) to request either of these, and please provide your name, your mailing address, and the document title, “Air Quality Criteria for Lead; Second External Review Draft,” (EPA/600/R-05/144aB-bB) to facilitate processing of your request.

Submit your comments, identified by Docket ID No. EPA-HQ-ORD-2004-0018, by one of the following methods:

• http://www.regulations.gov: Follow the on-line instructions for submitting comments.

• E-mail: ORD.Docket@epa.gov.

• Fax: 202-566-1753; Office of Environmental Information (OEI) Docket in the Headquarters EPA Docket Center.

• Mail: Office of Environmental Information (OEI) Docket in the Headquarters EPA Docket Center (Mail Code 2822T), U.S. Environmental Protection Agency, 1200 Pennsylvania Avenue, NW., Washington, DC 20460. If you provide information in writing, please submit one unbound original, with pages numbered consecutively, and three copies. For attachments, provide an index, number pages consecutively with the main text, and submit an unbound original and three copies.

• Hand Delivery: Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752. Deliveries are only accepted during the Docket's normal hours of operation, and special arrangements should be made for deliveries of boxed information.

Instructions: Direct your comments to Docket ID No. EPA-HQ-ORD-2004-0018. EPA's policy is that all comments received will be included in the public docket without change and may be made available online at http://www.regulations.gov, including any personal information provided, unless the included information is claimed as Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information with any disk or CD-ROM you submit. If EPA cannot read your comment due to technical difficulties and cannot contact you for clarification, EPA may not be able to consider your comment. Electronic files should avoid the use of special characters, any form of encryption, and be free of any defects or viruses. For additional information about EPA's public docket, visit the EPA Docket Center home page at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the OEI Docket, EPA/DC, EPA West, Room B102, 1301 Constitution Ave., NW., Washington, DC. The Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

FOR FURTHER INFORMATION CONTACT: For information on the public comment period, contact the Office of Environmental Information Docket; telephone: 202-566-1752; facsimile: 202-566-1753; or e-mail: ORD.Docket@epa.gov.

For technical information, contact Lori White, Ph.D., NCEA; telephone: 919-541-3146; facsimile: 919-541-1818; or e-mail: white.lori@epa.gov.

SUPPLEMENTARY INFORMATION: Section 108 (a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish National Ambient Air Quality Standards (NAAQS) for each pollutant for which EPA has issued criteria. Section 109 (d) of the Act requires subsequent periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. One of the next steps in this process was to prepare a project work plan for revision of the existing “Air Quality Criteria for Lead,” EPA-600/8-83/028aF-dF (published in June 1986) and an associated supplement (EPA-600/8-89/049F) published in 1990. Accordingly, a draft of EPA's “Project Work Plan for Revised Air Quality Criteria for Lead” (NCEA-R-1465) was released on January 7, 2005, for public comment (70 FR 1439) and was discussed by the Clean Air Scientific Advisory Committee (CASAC) via a publicly accessible March 28, 2005, teleconference consultation (70 FR 11629). On July 15, 2005 (70 FR 41007), several workshops were announced to discuss, with invited recognized scientific experts, initial draft materials that dealt with various lead-related issues being addressed in the draft AQCD for lead. These workshops were held August 4-5, 16-18, and 17-19, 2005. The first external review draft of the Air Quality Criteria for Lead (EPA/600/R-05/144aA-bA) was announced in the Federal Register on December 2, 2005 (70 FR 72300). The CASAC Lead Review Panel reviewed the first external review draft at a public meeting on February 28 and March 1, 2006. EPA considered the comments of the CASAC review panel and of the public in drafting this “Air Quality Criteria for Lead, Second External Review Draft.”

After the end of the comment period on the “Air Quality Criteria for Lead, Second External Review Draft,” the CASAC review panel will review the draft at a public meeting. Public comments received will be provided to the CASAC review panel. There will be a Federal Register notice to inform the public of the exact date and time of that CASAC meeting.

Dated: May 3, 2006.
Peter W. Preuss,
Director, National Center for Environmental Assessment.

[FR Doc. E6-7647 Filed 5-18-06; 8:45 am]

BILLING CODE 6560-50-P